ENVIRONMENTAL PROTECTION AGENCY

40 CFR Part 52

[EPA-R04-OAR-2004-TN-0004, EPA-R04-OAR-2005-TN-0009, EPA-R04-OAR-2006-0532, 200607/17(b); FRL-8265-5]

Approval and Promulgation of Implementation Plans; Tennessee: Approval of Revisions to the Knox County Portion of the Tennessee State Implementation Plan

AGENCY: Environmental Protection Agency (EPA).

ACTION: Proposed rule.

SUMMARY: EPA is proposing to approve several revisions to the Tennessee State Implementation Plan (SIP) submitted by the State of Tennessee, through the Tennessee Department of Environment and Conservation, on March 16, 2000, July 23, 2002, December 10, 2004, and January 31, 2006. The revisions pertain to the Knox County portion of the Tennessee SIP and include changes to Knox County Air Quality Regulations Section 16.0—Open Burning, Section 25.0—Permits, and Section 46.0—Regulation of Volatile Organic Compounds. EPA is not taking any action at this time on Section 13.0—Definitions (part of the December 10, 2004, submittal) and Section 16.4.D., which was part of the January 31, 2006, submittal but subsequently withdrawn by Knox County. The SIP revisions described above are part of Knox County's strategy to attain and maintain the national ambient air quality standards. This action is being taken pursuant to the Clean Air Act. In the Final Rules Section of this Federal Register, EPA is approving revisions to the Tennessee SIP for these Tennessee SIP submittals as a direct final rule without prior proposal because the Agency views these as a noncontroversial submittals, and anticipates no adverse comments. A detailed rationale for the approval is set forth in the direct final rule. If no significant, material, and adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before February 2, 2007.

ADDRESSES: Submit your comments, identified by Docket ID Nos. EPA-R04-OAR-2004-TN-0004, EPA-R04-OAR-2005-TN-0009, and EPA-R04-OAR-2006-0532 by one of the following methods:

1. www.regulations.gov: Follow the on-line instructions for submitting comments.

2. E-mail: louis.egide@epa.gov or hou.james@epa.gov.

3. Fax: (404) 562-9019.

4. Mail: “EPA-R04-OAR-2004-TN-0004,” “EPA-R04-OAR-2005-TN-0009,” or “EPA-R04-OAR-2006-0532,” Regulatory Development Section, Air Planning Branch, Air, Pesticides and Toxics Management Division, U.S. Environmental Protection Agency, Region 4, 61 Forsyth Street, SW., Atlanta, Georgia 30303-8960.

5. Hand Delivery or Courier: Egide Louis or James Hou, Regulatory Development Section, Air Planning Branch, Air, Pesticides and Toxics Management Division, U.S. Environmental Protection Agency, Region 4, 61 Forsyth Street, SW., Atlanta, Georgia 30303-8960. Such deliveries are only accepted during the Regional Office's official hours of business. The Regional Office's official hours of business are Monday through Friday, 8:30 to 4:30, excluding Federal holidays.

Please see the direct final rule which is located in the Rules section of this Federal Register for detailed instructions on how to submit comments.

FOR FURTHER INFORMATION CONTACT: Egide Louis or James Hou, Regulatory Development Section, Air Planning Branch, Air, Pesticides and Toxics Management Division, U.S. Environmental Protection Agency, Region 4, 61 Forsyth Street, SW., Atlanta, Georgia 30303-8960. Dr. Louis can be reached by telephone at (404) 562-9240 or via electronic mail at louis.egide@epa.gov. The telephone number for Mr. Hou is (404) 562-8965. He can also be reached via electronic mail at hou.james@epa.gov.

SUPPLEMENTARY INFORMATION: For additional information see the direct final rule which is published in the Rules Section of this Federal Register.

Dated: December 20, 2006.
A. Stanley Meiburg,
Acting Regional Administrator, Region 4.

[FR Doc. E6-22474 Filed 12-29-06; 8:45 am]

BILLING CODE 6560-50-P